FEDERAL ENERGY REGULATORY COMMISSION

[EL00-94-000]

Citizens Power Inc. v. FirstEnergy and FirstEnergy Operating Companies; Notice of Complaint

July 28, 2000.

Take notice that on July 26, 2000, Citizen Power Inc. filed a complaint under Section 306 of the Federal Power Act alleging that FirstEnergy System and FirstEnergy Operating Companies had failed to file a Section 203 application for the transfer of generating facilities to FirstEnergy's marketing affiliate.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before August 15, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before August 15, 2000.

Linwood A. Watson, Jr.,
Acting Secretary.

[FR Doc. 00-19597 Filed 8-2-00; 8:45 am]

BILLING CODE 6717-01-M